DEPARTMENT OF STATE

[Public Notice 5820]

Bureau of Educational and Cultural Affairs (ECA) Request for Grant Proposals: Survey of International Educational Exchange Activity in the United States

Announcement Type: New Cooperative Agreement.

Funding Opportunity Number: ECA/A/S/A-08-01.

Catalog of Federal Domestic Assistance Number: 00.000.

Key Dates: October 1, 2007 to September 30, 2009.

Key Dates: Application Deadline: Friday, July 13, 2007.

Executive Summary: The Educational Information and Resources Branch, Office of Global Educational Programs, Bureau of Educational and Cultural Affairs (the Bureau) announces an open competition for a survey of International Educational Exchange Activity in the United States. Public and private non-profit organizations meeting the provisions described in Internal Revenue Code section 26 U.S.C. 501(c)(3) may submit proposals to conduct a statistical survey (census) of foreign nationals enrolled in institutions of higher learning in the United States. The survey must provide detailed individual student profile data and country-specific aggregate data that enumerate the numbers of foreign students and scholars from a given country affiliated with individual U.S. institutions. In addition, the report should include information about first-time enrollments to facilitate the analysis of enrollment trends. The survey, which should be conducted in the most cost-effective way possible, should identify the number of foreign students and scholars studying, conducting research, or teaching at all accredited universities and colleges in the United States during the 2007/2008 academic year (fall 2007 through summer 2008). Finally, the report should also include data about the number of American students studying abroad in credit-bearing programs of all types (year-long, semester, short-term and summer). Proposals should describe the methodology that will be used to collect the data and how the material will be analyzed and presented to the public. To the extent possible, cooperation is encouraged with the Department of Homeland Security on data comparison and sharing. Proposals must also include plans to establish an advisory board to provide assistance in identifying and framing policy issues that may need to be addressed by policy makers.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Since 1974, the State Department's Bureau of Educational and Cultural Affairs, with its mandate under the Fulbright-Hays Act to promote mutual understanding through international educational exchange, has supported an annual survey of foreign students in the United States in order to gain an accurate and up-to-date picture of international educational exchange activity in the United States. Recent reports have expanded on the original survey's parameters to include foreign scholars and U.S. students studying overseas. Proposals to conduct this project should describe plans for a statistical survey that would offer a detailed and comprehensive picture of the number and academic characteristics (major fields of study or program, level of study, etc.) of non-immigrant foreign nationals (that is, excluding permanent residents and refugees) affiliated with (i.e., enrolled at, employed by, etc.) American institutions of higher learning, as well the number of U.S. students studying abroad. Topics that should be covered in the survey include the number of foreign students and scholars, their gender and countries of origin. Information about students' academic level (undergraduate, graduate, post-doctorate), fields of study, primary source of financial support, financial contributions they make while in the United States, and location of study should be included. Proposals may request Bureau funding of a publication, Web site, database, newsletter, or another medium that is presented as a viable vehicle for making this data widely available to the public in a timely manner and in a clear and concise format. The Bureau reserves the right to reproduce, publish or otherwise use any work developed under this grant for U.S. Government purposes.

Guidelines

Proposals should include a precise description of the methodology to be used to obtain the data called for in this solicitation. Applicants are reminded of the need to find the most efficient and economical approach to gathering the data and are encouraged to explore electronic data collection. Applicants should also seek ways of making the information available to the public within the academic year that it is collected. Data collected should be published and made available in coordination with the Bureau.

Applicants are also encouraged to include information about their capacity to carry out electronic surveys and to report on findings at the request of the Bureau that would focus on one or more critical issues related to international educational exchange that may arise during the period in which census data is being gathered.

To provide for a more detailed analysis and cross tabulation of the characteristics of foreign students studying in the United States, individual student profile data should also be collected. This individual student profile data should be provided to the Bureau in a format that is country-specific and should show the number of students from a specific country attending selected institutions of higher education in each state of the U.S.

The Bureau seeks a clear presentation and rigorous analysis of the data collected that will draw conclusions about trends in foreign student enrollments, numbers of foreign scholars on U.S. campuses and American students studying abroad that can be used to guide policy discussions for both government and the educational community.

Proposals should describe the establishment of an advisory board to provide assistance in identifying and framing policy issues to be addressed in the survey; the board should meet at least once a year. Board members would likely be drawn from a broad range of educational associations and organizations and will be appointed in consultation with the Bureau. Members would be expected to provide perspectives on topics that are related to the internationalization of higher education.

Scholarly analyses of survey data addressing pertinent policy issues should be included in the final report, which will be read by policy-makers in government, the educational community, and business, as well as practitioners in international educational exchange. The report will also be covered by national and educational media organizations. The report should also include a narrative on the mechanics and uses of data analysis, highlighting how conclusions can be drawn from the data collected, some of the limitations of that analysis, and how the data can benefit the educational institutions supplying it, for example, as a campus advocacy or recruiting tool. Applicants should include with the proposal a complete list of proposed chapter headings and sample analyses.

The Bureau welcomes innovative approaches to the presentation of material, including possible breakdowns for minority-serving institutions such as Historically Black Colleges and Universities and the Hispanic Association of Colleges and Universities. The Bureau also encourages applicants to consider including reporting on other topics of current interest in the final report, such as:

(1) How the international exchange population is affected by U.S. visa policies;

(2) How student flows to the U.S. may have been affected by efforts of other countries to attract foreign students, by the expansion of the European Union and its efforts to build an academic market via the Bologna Agreement, etc.

(3) How political and economic trends in other countries are reflected in student flows to the U.S.;

(4) How economic trends in the U.S., including the rise in tuition levels and the cost of living, may have affected student flows to the U.S.;

(5) As an element of global trade, how international student flows may have commercial significance for the development of foreign markets for U.S. education and training;

(6) The impact of international students and scholars on U.S. academic institutions and departments;

(7) Demonstrated benefits of study abroad (for example, as seen by employers);

(8) U.S. institutions' activities to educate foreign students in their home countries, through, for example, overseas campuses or distance education programs, to complement the data collected on the education of foreign students in the United States;

(9) The numbers of foreign students studying in intensive English language programs in the United States.

In addition to the above, proposals should explain how the following activities might be undertaken:

• Use SEVIS data (if available) to conduct policy-relevant analysis of emerging issues in consultation with the Bureau and to provide trend data pertaining to international students in the U.S. (for example, key places of origin, including countries in Central Europe, Latin America, Asia, and the Middle East).

• Conduct surveys of international students' attitudes toward U.S. higher education in cooperation with the Department of State's network of EducationUSA centers. These centers promote U.S. higher education in 170 countries around the world. Centers exist in a variety of locations including: U.S. embassies and consulates, Fubright commissions, binational centers, non-governmental organizations, universities and libraries. A complete list of centers is located at http://www.educationusa.state.gov. These surveys might include a study of international students from key places of origin to determine their attitudes toward the U.S. and their perceptions of study in the U.S., or an overseas survey of the attitudes and perceptions of international students enrolled in U.S. branch campuses in selected countries.

• Conduct overseas surveys to collect contextual information on international students' decision making process in choosing to study abroad

• Report on higher education trends in key regions

• Conduct detailed analyses of the foreign student population. Analyses could include profiles of foreign students which contain comparative and cross-tabulated data that provide a deeper understanding of student flows, detailed information about sub-groups, i.e. the proportions of students in various fields of study, what proportion are female or male, what proportion of foreign students studying engineering is from Asia, etc.

• Conduct surveys through a web-based data collection system.

In a cooperative agreement, the Educational Information and Resources Branch (ECA/A/S/A) is substantially involved in program activities above and beyond routine grant monitoring. ECA/A/S/A activities and responsibilities for this program are as follows:

ECA/A/S/A will provide guidance on the types of issues and information to gather. Additionally, ECA/A/S/A may request the analysis of policy-relevant issues and trend data pertaining to international students in the U.S.

II. Award Information

Type of Award: Cooperative Agreement.

ECA's level of involvement in this program is listed under number I above.

Fiscal Year Funds: FY 2008.

Approximate Total Funding: $400,000.

Approximate Number of Awards: 1.

Approximate Average Award: $400,000, pending availability of funds.

Anticipated Award Date: Pending availability of funds, October 1, 2007.

Anticipated Project Completion Date: September 30, 2009. Additional Information: Pending successful implementation of this program and the availability of funds in subsequent fiscal years, it is ECA's intent to renew this grant for two additional fiscal years before the next competition. Future support will be contingent upon accurate data collection, quality of presentation of that data, and prompt publication of the census.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates awarding one grant, in an amount up to $400,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information To Request an Application Package

Please contact the Educational Information and Resources Branch, ECA/A/S/A, Room 349, U.S. Department of State, SA-44, 301 4th Street, SW., Washington, D.C. 20547, telephone: 202-453-8868, fax: 202-453-8890, e-mail: MoraDD@state.gov to request a Solicitation Package. Please refer to the Funding Opportunity Number ECA/A/S/A-08-05 located at the top of this announcement when making your request. Alternatively, an electronic application package may be obtained from grants.gov. Please see section IV.3f for further information.

The Solicitation Package contains the Proposal Submission Instruction (PSI) document which consists of required application forms, and standard guidelines for proposal preparation.

Please specify Bureau Program Officer Dorothy Mora and refer to the Funding Opportunity Number ECA/A/S/A-08-05 located at the top of this announcement on all other inquiries and correspondence.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

The following is included for informational purposes only:

IV.3d.1 Adherence to All Regulations Governing the J Visa.

The Bureau of Educational and Cultural Affairs places critically important emphases on the security and proper administration of the Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom and Democracy Guidelines.

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation.

Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable timeframe), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d. Describe your plans for: Sustainability, overall program management, staffing, and coordination with ECA.

IV.3e. Please take the following information into consideration when preparing your budget:

IV.3e.1. Applicants must submit a comprehensive budget for the entire program. There must be a summary budget as well as breakdowns reflecting both administrative and program budgets. Applicants may provide separate sub-budgets for each program component, phase, location, or activity to provide clarification.

IV.3e.2. Allowable costs for the program include the following:

(1) Salaries and fringe benefits; travel and per diem;

(2) Other direct costs, inclusive of rent, utilities, etc.;

(3) Overhead expenses and auditing costs.

Please refer to the Solicitation Package for complete budget guidelines and formatting instructions.

IV.3f. Application Deadline and Methods of Submission:

Application Deadline Date: Friday, July 13, 2007.

Reference Number: ECA/A/S/A-01.

Methods of Submission: Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1. Submitting Printed Applications.

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and eight copies of the application should be sent to: U.S. Department of State, SA-44, Bureau of Educational and Cultural Affairs, Ref.: ECA/A/S/A-08-01, Program Management, ECA/EX/PM, Room 534, 301 4th Street, SW., Washington, DC 20547.

Applicants submitting hard-copy applications must also submit the “Executive Summary” and “Proposal Narrative” sections of the proposal in text (.txt) or Microsoft Word format on a PC-formatted disk. The Bureau will provide these files electronically to the appropriate Public Affairs Sections at U.S. embassies for their review.

IV.3f.2. Submitting Electronic Applications.

Applicants have the option of submitting proposals electronically through Grants.gov (http://www.grants.gov). Complete solicitation packages are available at Grants.gov in the “Find” portion of the system. Please follow the instructions available in the ‘Get Started’ portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. Therefore, we strongly recommend that you not wait until the application deadline to begin the submission process through Grants.gov.

Direct all questions regarding Grants.gov registration and submission to: Grants.gov Customer Support; Contact Center Phone: 800-518-4726. Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Support of Diversity: Proposals should demonstrate substantive support of the Bureau's policy on diversity.

5. Institutional Capacity: Proposed personnel and institutional resources should be adequate and appropriate to achieve the program or project's goals.

6. Institution's Record/Ability: Proposals should demonstrate an institutional record of successful exchange programs, including responsible fiscal management and full compliance with all reporting requirements for past Bureau grants as determined by Bureau Grants Staff. The Bureau will consider the past performance of prior recipients and the demonstrated potential of new applicants.

7. Project Evaluation: Proposals should include a plan to evaluate the activity's success, both as the activities unfold and at the end of the program. A draft survey questionnaire or other technique plus description of a methodology to use to link outcomes to original project objectives is recommended.

8. Cost-effectiveness: The overhead and administrative components of the proposal, including salaries and honoraria, should be kept as low as possible. All other items should be necessary and appropriate.

9. Cost-sharing: Proposals should maximize cost-sharing through other private sector support as well as institutional direct funding contributions.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements: Terms and Conditions for the Administration of ECA agreements include the following:

Office of Management and Budget Circular A-122, “Cost Principles for Nonprofit Organizations.”

Office of Management and Budget Circular A-21, “Cost Principles for Educational Institutions”.

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants;

http://exchanges.state.gov/education/grantsdiv/terms.htm#articleI.

VI.3. Reporting Requirements: You must provide ECA with a hard copy original plus two copies of the following report: A final program and financial report no more than 90 days after the expiration of the award.

Grantees will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VII. Agency Contacts

For questions about this announcement, contact: Dorothy Mora, Educational Information and Resources Branch, ECA/A/S/A, Room 349, ECA/A/S/A-08-01, U.S. Department of State, SA-44, 301 4th Street, SW., Washington, DC 20547, phone: 202-453-8868, fax: 202-453-8890, e-mail: MoraDD@state.gov.

All correspondence with the Bureau concerning this RFGP should reference the above title and number ECA/A/S/A-08-01.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 23, 2007.
C. Miller Crouch,
Principal Deputy Assistant Secretary, Bureau of Educational and Cultural Affairs, Department of State.

[FR Doc. E7-10475 Filed 5-30-07; 8:45 am]

BILLING CODE 4710-05-P